DEPARTMENT OF LABOR

Employment and Training Administration

[Docket No. TA-W-37,833]

PED Oil Corporation Midland, TX; Termination of Investigation

Pursuant to Section 221 of the Trade Act of 1974, an investigation was initiated on July 3, 2000, in response to a worker petition which was filed on behalf of a worker at PED Oil Corporation, Midland, Texas.

The petitioner has requested that the petition be withdrawn. Consequently, further investigation in this case would serve no purpose, and the investigation has been terminated.

Signed in Washington, D.C. this 10th day of August, 2000.
Grant D. Beale,
Program Manager, Division of Trade Adjustment Assistance.

[FR Doc. 00-21726 Filed 8-24-00; 8:45 am]

BILLING CODE 4510-30-M